DEPARTMENT OF HEALTH AND HUMAN SERVICES

Administration for Children and Families

Notice of Intent To Fund International Social Service, United States of America Branch, Inc., Baltimore, Maryland

AGENCY: Office of Refugee Resettlement (ORR), ACF, DHHS.

ACTION: This is a Notice of Intent to Fund a Sole Source Cooperative Agreement to International Social Service, United States of America Branch, Inc. (ISS-USA), Baltimore, Maryland, to provide services to U.S. citizens returned from abroad through the U.S. Repatriate Program.

SUMMARY: The purpose of the technical assistance agreement is to ensure the provision of direct assistance to repatriates to aid in their return to the U.S. from abroad. Repatriates are referred from officials of the U.S. Consular offices, Department of State, and are provided services upon arrival in the U.S. through U.S. human service organizations, public and private.

FOR FURTHER INFORMATION CONTACT: Sue Benjamin at (202) 401-4851.

Legislative Authority

Title XI, Section 1113 of the Social Security Act (Assistance for United States Citizens Returned from Foreign Countries) [42 U.S.C. 1313 (a) (1)]; Public Law 86-571 (Hospitalization for Mentally Ill Repatriates and Other Services) [24 U.S.C. parts 321-329]; and Executive Order 12656 which assigns DHHS the responsibility for planning for the reception, temporary care, and onward transportation for U.S. citizens and dependents returned to the U.S. in a national emergency.

The Catalog of Federal Domestic Assistance (CFDA) number assigned to this announcement is 93.579.

Funding Availability—ORR intends to award one cooperative agreement to ISS-USA, Baltimore, Maryland, for up to $850,000.

Project Period and Budget Period—The project period is for five years, from September 30, 2001—September 29, 2006. Each award will be for a one-year budget period, with the first budget period from September 30, 2001—September 29, 2002.

Part I: Background

The Office of Refugee Resettlement (ORR), an agency of the U.S. Department of Health and Human Services, is responsible for administering the U.S. Repatriate Program. In 1996, ORR awarded a five-year technical assistance cooperative agreement to ISS-USA, Baltimore, Maryland, to ensure that direct assistance would be provided to repatriates to aid in their return to the U.S. from abroad.

ISS-USA is a member of a consortium entitled the Refugee Council USA, whose members are private organizations that provide assistance in almost all communities in the U.S. ISS-USA also has established links with state and county public human service organizations. Additionally, as a member of an international consortium of international social services organizations, ISS-USA is able to respond to a U.S. repatriate who requires services prior to returning to the U.S. Finally, ISS-USA staff have the required social work credentials and have experience working with the mentally ill, with criminal cases, and with child welfare cases.

ISS-USA has capably provided technical assistance and coordination of services in all counties in the U.S., assisting repatriates returning from abroad, for the past five years under the current agreement. This sole source cooperative agreement will permit ACF to continue funding ISS-USA, which has proven abilities to be responsive to repatriated persons anywhere within the U.S.

The ISS-USA performed the following types of activities under this technical assistance cooperative agreement.

Client Services

• Casework

• Data and financial services

• Maintenance of the State Contact List

• Group or emergency repatriation

Archive Maintenance

• Maintaining case files prior to archiving according to DHHS policies and procedures.

Since ISS-USA has successfully performed under the current cooperative agreement, ACF intends to fund them for another five-year project period, subject to availability of funds, satisfactory progress of the grantee and a determination that continued funding would be in the best interest of the Government. Organizations who believe they have the capacity to provide the required services and are interested in competing for the award must contact Sue Benjamin, within 30 days from date of publication in the Federal Register, at the following address: Office of Refugee Resettlement, 37 L'Enfant Promenade, Washington, DC 20447, Tel: (202) 401-4851, Fax: (202) 401-0981, Email: sbenjamin@acf.dhhs.gov.

Dated: July 2, 2001.
Carmel Clay-Thompson.
Acting Director, Office of Refugee Resettlement.

[FR Doc. 01-16939 Filed 7-5-01; 8:45 am]

BILLING CODE 4184-01-M